DEPARTMENT OF AGRICULTURE

Animal and Plant Health Inspection Service

[Docket No. APHIS-2018-0034]

Environmental Impact Statement; Movement of Certain Genetically Engineered Organisms: Record of Decision

AGENCY: Animal and Plant Health Inspection Service, USDA.

ACTION: Notice.

SUMMARY: This notice advises the public of the Animal and Plant Health Inspection Service's record of decision for the final environmental impact statement titled “Revisions to USDA-APHIS 7 CFR part 340 Regulations Governing the Importation, Interstate Movement, and Environmental Release of Certain Genetically Engineered Organisms.”

DATES: An official of the Animal and Plant Health Inspection Service-Biotechnology Regulatory Services signed the record of decision on March 19, 2021.

ADDRESSES: You may read the final environmental impact statement and record of decision in our reading room. The reading room is located in room 1620 of the USDA South Building, 14th Street and Independence Avenue SW, Washington, DC. Normal reading room hours are 8 a.m. to 4:30 p.m., Monday through Friday, except holidays. To be sure someone is there to help you, please call (202) 799-7039 before coming. The record of decision, final environmental impact statement, and supporting information may also be viewed on the Regulations.gov website. To obtain copies of the documents, contact the person listed under FOR FURTHER INFORMATION CONTACT.

FOR FURTHER INFORMATION CONTACT: For information on the movement of genetically engineered organisms, contact Mrs. Chessa Huff-Woodard, Esq., Branch Chief of Policy, Program, and International Collaboration, BRS, APHIS, 4700 River Road, Riverdale, MD 20737; (301) 851-3943. For questions related to the environmental impact statement, contact Ms. Joanne Serrels, Biological Scientist, ERAS, PPD, APHIS, 4700 River Road, Riverdale, MD 20737; (301) 851-3867.

SUPPLEMENTARY INFORMATION: On June 29, 2018, the Animal and Plant Health Inspection Service (APHIS) published a notice of intent (NOI) ¹ in the Federal Register (83 FR 30688-30689, Docket No. APHIS-2018-0034) to prepare a programmatic environmental impact statement (PEIS). The NOI solicited public comment to help define the issues to be considered in the PEIS and scope of alternatives to consider in revision of the biotechnology regulations in 7 CFR part 340.

¹ To view the NOI and the comments we received, go to www.regulations.gov, and enter APHIS-2018-0034 in the Search field.

The comment period on the NOI ended on July 30, 2018. At the close of this comment period APHIS had received 35 submissions from the public. The submissions were from individuals from academic organizations, professional organizations, trade groups, commodity groups, industry, non-governmental organizations, federally recognized Tribes, and unspecified individuals.

On June 6, 2019, APHIS published a proposed rule ² in the Federal Register (84 FR 26514-26541, Docket No. APHIS-2018-0034) that entailed a comprehensive revision of the regulations in part 340. Along with the proposed rule, a draft PEIS and other supporting documents were published for public review and comment. The proposed rule and the draft PEIS were made available to the public both on the Regulations.gov website and on APHIS' website. The comment period for both documents closed on August 5, 2019. APHIS received a total of 6,151 public submissions. The commenters on the proposed rule and draft PEIS fell into the same categories as did those on the NOI.

² To view the proposed rule the comments we received, and the supporting documents, go to www.regulations.gov and enter APHIS-2018-0034 in the Search field.

After reviewing the comments, APHIS then published a final rule ³ in the Federal Register on May 18, 2020 (85 FR 29790-29838, Docket No. APHIS-2018-0034). Along with the final rule and other supporting documents, APHIS published a final PEIS. Public comments we received on the NOI are summarized in Appendix 2 of the final PEIS, along with APHIS' responses. Public comments that we received on the June 2019 proposed rule that specifically addressed the draft PEIS are summarized in Appendix 3 of the final PEIS, along with APHIS' responses.

³ To view the final rule, go to www.regulations.gov and enter APHIS-2018-0034 in the Search field.

On May 8, 2020, the Environmental Protection Agency published a notice ⁴ in the Federal Register (85 FR 27412-27413, Docket No. ER-FRL-9050-7) announcing the availability of the final PEIS to the public. Additionally, APHIS posted the final PEIS on its website on May 14, 2020. On May 22, 2020 the Environmental Protection Agency published a second notice ⁵ in the Federal Register (85 FR 31182-31183, Docket No. ER-FRL-9050-9) extending the review period for the PEIS until June 22, 2020.

⁴ To view the notice, go to www.regulations.gov and enter ER-FRL-9050-7 in the Search field.

⁵ To view the notice, go to www.regulations.gov and enter ER-FRL-9050-9 in the Search field.

The National Environmental Policy Act (NEPA) implementing regulations in 40 CFR 1506.11(b)(2) require a minimum 30-day waiting period between the time a final EIS is published and the time an agency makes a decision on an action covered by the EIS. We received one comment during the waiting period. APHIS has reviewed the final EIS and concluded that it fully analyzes the issues covered by the draft EIS and addresses the comment and suggestions submitted by the commenter. This notice advises the public that the waiting period has elapsed, and APHIS has issued a record of decision (ROD) to implement the preferred alternative described in the final EIS.

The ROD has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 31st day of March 2021.
Michael Watson,
Acting Administrator, Animal and Plant Health Inspection Service.

[FR Doc. 2021-06978 Filed 4-2-21; 8:45 am]

BILLING CODE 3410-34-P